COMMITTEE FOR PURCHASE FROM PEOPLE WHO ARE BLIND OR SEVERELY DISABLED

Procurement List; Additions And Deletions

AGENCY: Committee for Purchase From People Who Are Blind or Severely Disabled.

ACTION: Additions to and Deletions from the Procurement List.

SUMMARY: This action adds products to the Procurement List that will be furnished by nonprofit agencies employing persons who are blind or have other severe disabilities, and deletes services from the Procurement List previously provided by such agencies.

DATES: Effective Date: 2/6/2014.

ADDRESSES: Committee for Purchase From People Who Are Blind or Severely Disabled, 1401 S. Clark Street, Suite 10800, Arlington, Virginia, 22202-4149.

FOR FURTHER INFORMATION CONTACT: Barry S. Lineback, Telephone: (703) 603-7740, Fax: (703) 603-0655, or email CMTEFedReg@AbilityOne.gov.

SUPPLEMENTARY INFORMATION:

Additions

On 11/8/2013 (78 FR 67129-67130) and 11/15/2013 (78 FR 68823-68824), the Committee for Purchase From People Who Are Blind or Severely Disabled published notices of proposed additions to the Procurement List.

After consideration of the material presented to it concerning capability of qualified nonprofit agencies to provide the products and impact of the additions on the current or most recent contractors, the Committee has determined that the products listed below are suitable for procurement by the Federal Government under 41 U.S.C. 8501-8506 and 41 CFR 51-2.4.

Regulatory Flexibility Act Certification

I certify that the following action will not have a significant impact on a substantial number of small entities. The major factors considered for this certification were:

1. The action will not result in any additional reporting, recordkeeping or other compliance requirements for small entities other than the small organizations that will furnish the products to the Government.

2. The action will result in authorizing small entities to furnish the products to the Government.

3. There are no known regulatory alternatives which would accomplish the objectives of the Javits-Wagner-O'Day Act (41 U.S.C. 8501-8506) in connection with the products proposed for addition to the Procurement List.

End of Certification

Accordingly, the following products are added to the Procurement List:

Products:

Pen, Roller Ball, Liquid Ink, Retractable, Needle Point, Airplane Safe

NSN: 7520-00-NIB-1932—0.5 mm, Refillable, Black

NSN: 7520-00-NIB-1933—0.5 mm, Refillable, Blue

NSN: 7520-00-NIB-1934—0.7 mm, Refillable, Black

NSN: 7520-00-NIB-1935—0.7 mm, Refillable, Blue

Coverage: A-List for the Total Government Requirement as aggregated by the General Services Administration.

Refill, Roller Ball, Liquid Ink, Airplane Safe

NSN: 7510-00-NIB-2241—0.5 mm, Black

NSN: 7510-00-NIB-9896—0.5 mm, Blue

NSN: 7510-00-NIB-9897—0.7 mm, Black

NSN: 7510-00-NIB-9898—0.7 mm, Blue

Coverage: B-List for the Broad Government Requirement as aggregated by the General Services Administration.

NPA: San Antonio Lighthouse for the Blind, San Antonio, TX

Contracting Activity: GENERAL SERVICES ADMINISTRATION, NEW YORK, NY

NSN: 8950-01-E62-2180—Pepper, Crushed Red, 12 oz. Bottle, 6/CS

NPA: CDS Monarch, Webster, NY

Contracting Activity: DEFENSE LOGISTICS AGENCY TROOP SUPPORT, PHILADELPHIA, PA

Coverage: C-List for 100% of the requirement of the Department of Defense as aggregated by the Defense Logistics Agency Troop Support, Philadelphia, PA.

Deletions

On 11/22/2013 (78 FR 70022-70023), the Committee for Purchase From People Who Are Blind or Severely Disabled published notice of proposed deletions from the Procurement List.

After consideration of the relevant matter presented, the Committee has determined that the services listed below are no longer suitable for procurement by the Federal Government under 41 U.S.C. 8501-8506 and 41 CFR 51-2.4.

Regulatory Flexibility Act Certification

I certify that the following action will not have a significant impact on a substantial number of small entities. The major factors considered for this certification were:

1. The action will not result in additional reporting, recordkeeping or other compliance requirements for small entities.

2. The action may result in authorizing small entities to provide the services to the Government.

3. There are no known regulatory alternatives which would accomplish the objectives of the Javits-Wagner-O'Day Act (41 U.S.C. 8501-8506) in connection with the services deleted from the Procurement List.

End of Certification

Accordingly, the following services are deleted from the Procurement List:

Services:

Service Type/Location: Janitorial/Custodial Service, Social Security Administration: 4020 Durand Avenue, Racine, WI.

NPA: Lakeside Curative Services, Inc., Racine, WI.

Contracting Activity: GSA/PUBLIC BUILDINGS SERVICE, PROPERTY MANAGEMENT SERVICE CENTER, MILWAUKEE, WI.

Service Type/Location: Janitorial/Custodial Service, Naval Reserve Center, La Crosse, WI.

NPA: Riverfront Activity Center, Inc., La Crosse, WI.

Contracting Activity: DEPT OF THE NAVY, NAVAL FAC ENGINEEERING CMD MIDWEST, GREAT LAKES, IL.

Service Type/Location: Shelf Stocking Service, Brunswick Naval Air Station, 35 Dominion Avenue, Building 335, Topsham, ME.

NPA: Pathways, Inc., Auburn, ME.

Contracting Activity: DEFENSE COMMISSARY AGENCY, FORT LEE, VA.

Barry S. Lineback,
Director, Business Operations.

[FR Doc. 2013-31528 Filed 1-3-14; 8:45 am]

BILLING CODE 6353-01-P